INTERNATIONAL TRADE COMMISSION

[Investigation No. 332-421]

Processed Foods and Beverages: A Description of Tariff and Non-tariff Barriers for Major Products and Their Impact on Trade

AGENCY: United States International Trade Commission.

ACTION: Institute of investigation and scheduling of public hearing.

EFFECTIVE DATE: November 17, 2000.

FOR FURTHER INFORMATION CONTACT: For general information, Karl Rich (202-205-3317), Vince Honnold (202-205-3314), or Cathy Jabara (202-205-3309), Agriculture and Forest Products Division, Office of Industries, or for information on legal aspects, William Gearhart (202-205-3091), Office of the General Counsel, U.S. International Trade Commission. Hearing impaired persons can obtain information on this study by contacting the Commission's TDD terminal on (202) 205-1810. General information concerning the Commission may also be obtained by accessing its internet server (http://www.usitc.gov).

Background: In response to a letter received on October 31, 2000, from the Committee on Ways and Means, U.S. House of Representatives, the Commission instituted an investigation for the purpose of preparing a report that will describe the trade barriers affecting major products in the processed food and beverage sectors in major and potential markets and analyze the impact of these barriers on trade. As requested, the Commission's report will include the following:

(1) A description of the tariff and non-tariff barriers affecting trade in the processed food and beverage sectors in major and potential markets, including complex tariffs, tariff-rate quotas, regional trade agreements, licensing arrangements, certification and registration requirements, and variable levies;

(2) An evaluation of the prevalence of tariff escalation for processed food and beverage products; and

(3) An analysis of the impact of tariff and non-tariff barriers on trade and investment in the processed food and beverage sectors.

The report will cover major products in the following processed food and beverage sectors identified by the Committee: dairy products; sugars and sugar-containing products; vegetable oils; meats; eggs and egg products; flours and other intermediate goods; grain-based foods; fruits and vegetables; edible nuts and nut products; alcoholic beverages; pet food; and other miscellaneous food and beverage products.

Preliminary Written Comments: In order to assist the Commission in identifying the barriers and/or issues affecting the above sectors, the Commission requests that interested parties provide preliminary written comments on such barriers and/or issues by February 16, 2001. All preliminary written comments should be addressed to the Secretary, United States International Trade Commission, 500 E Street, SW., Washington, DC 20436. Interested parties are also encouraged to provide further information at the public hearing and in prehearing and posthearing briefs/statements.

Public Hearing: A public hearing in connection with the investigation will be held at the U.S. International Trade Commission Building, 500 E Street, SW., Washington, DC, beginning at 9:30 a.m. on May 22, 2001. All persons will have the right to appear, by counsel or in person, to present information and be heard. Requests to appear at the public hearing should be filed with the Secretary, United States International Trade Commission, 500 E Street, SW., Washington, DC 20436, no later than 5:15 p.m., May 8, 2001. Any prehearing briefs (original and 14 copies) should be filed not later than 5:15 p.m., May 10, 2001; the deadline for filing posthearing briefs or statements is 5:15 p.m., June 6, 2001. In the event that, as of the close of business, May 8, 2001, no witnesses are scheduled to appear at the hearing, the hearing will be canceled. Any person interested in attending the hearing as an observer or non-participant may call the Secretary to the Commission (202-205-1806) after May 8, 2001 to determine whether the hearing will be held.

Written Submissions: In lieu of, or in addition to, participating in the hearing, interested persons are invited to submit written statements concerning the matters to be addressed by the Commission in its report on this investigation. Commercial or financial information which a submitter desires the Commission to treat as confidential must be provided on separate sheets of paper, each clearly marked “Confidential Business Information” at the top. All submissions requested confidential treatment must conform with the requirements of section 201.6 of the Commission's Rules of Practice and Procedure (19 CFR 201.6). All written submissions, except for confidential business information, will be made available in the Office of the Secretary of the Commission for inspection by interested persons. To be assured of consideration by the Commission, written statements relating to the Commission's report should be submitted to the Commission in accordance with section 201.8 of the Commission's rules at the earliest practical date and should be received no later than the close of business on June 6, 2001. All submissions should be addressed to the Secretary, United States International Trade Commission, 500 E Street SW., Washington, DC 20436. The Commission's rules do not authorize filing of submissions with the Secretary by facsimile or electronic means.

Persons with mobility impairments who will need special assistance in gaining access to the Commission should contact the Office of the Secretary at 202-205-2000.

Issued: November 20, 2000.
By order of the Commission.
Donna R. Koehnke,
Secretary.

[FR Doc. 00-30243 Filed 11-27-00; 8:45 am]

BILLING CODE 3510-DS-P